ENVIRONMENTAL PROTECTION AGENCY

[ER-FRL-8591-8]

Environmental Impact Statements and Regulations; Availability of EPA Comments

Availability of EPA comments prepared pursuant to the Environmental Review Process (ERP), under section 309 of the Clean Air Act and Section 102(2)© of the National Environmental Policy Act as amended. Requests for copies of EPA comments can be directed to the Office of Federal Activities at 202-564-7167.

An explanation of the ratings assigned to draft environmental impact statements (EISs) was published in FR dated April 6, 2008 (73 FR 19833).

Draft EISs

EIS No. 20080528, ERP No. D-USN-L10006-00, Northwest Training Range Complex (NWTRC), To Support and Conduct Current, Emerging, and Future Training and Research, Development, Test and Evaluation (RDT&E) Activities, WA, OR and CA.

Summary: EPA expressed environmental concerns about impacts to marine resources. Rating EC2.

EIS No. 20080533, ERP No. D-AFS-K65351-CA, Plumas National Forest Public Motorized Travel Management, Implementation, Plumas National Forest, Plumas County, CA.

Summary: EPA expressed environmental concerns about the scope of the travel management planning process, and potential impacts from the designation of the Sly Creek open area and associated routes to soil and water resources. The Final EIS should address seasonal closures, monitoring, and enforcement commitments. Rating EC2.

EIS No. 20090028, ERP No. D-NPS-F65073-IN, Indiana Dunes National Lakeshore, Draft White-Tailed Deer Management Plan, Implementation, Lake, Porter, LaPorte Counties, IN.

Summary: The preferred alternative provides a balanced combination of methods to manage deer and natural resources. EPA does not object to this project. Rating LO.

Final EISs

EIS No. 20080347, ERP No. F-COE-D30005-MD, Atlantic Coast of Maryland Shoreline Protection Project, Proposed Dredging of Several New Offshore Shoals to Provide Sand for Borrow Sources from 2010 to 2044, Ocean City, Worcester County, MD.

Summary: EPA does not object to the proposed action.

EIS No. 20080378, ERP No. F-COE-D39028-00, Mid-Chesapeake Bay Island Ecosystem Restoration Integrated Feasibility Study, Using Uncontaminated Dredged Material from the Upper Chesapeake Bay Approach Channels to the Port of Baltimore to Restore and Protect Island Habitat in the Middle Portion of Chesapeake Bay, Dorchester County, MD.

Summary: EPA does not object to the proposed project.

EIS No. 20080509, ERP No. F-IBR-J39037-ND, Northwest Area Water Supply Project, To Construct a Biota Water Treatment Plant, Lake Sakakawea, Missouri River Basin to Hudson Bay Basin, Divide, Williams, Burke, Renville, Bottineau, Pierce, McHenry, Ward, Mountrail and McLean Counties, ND.

Summary: EPA noted that the preferred alternative incorporates earlier EPA recommendations regarding UV treatment technology and the need for a template for the adaptive management plan. EPA made additional comments regarding the water quality analysis.

EIS No. 20090036, ERP No. F-AFS-F65069-MN, Glacier Project, To Maintain and Promote Native Vegetation, Communities that are Diverse, Productive, Healthy, Implementation, Superior National Forest, Kawishiwi Ranger District, St. Louis and Lake Counties, MN.

Summary: The Final EIS addressed EPA's earlier question regarding the projected amount of suitable habitat for the Northern goshawk; therefore, EPA does not object to the proposed project.

Dated: March 24, 2009.
Ken Mittelholtz,
Environmental Protection Specialist, NEPA Compliance Division, Office of Federal Activities.

[FR Doc. E9-6886 Filed 3-26-09; 8:45 am]

BILLING CODE 6560-50-P